ENVIRONMENTAL PROTECTION AGENCY

[FRL-8774-4]

Science Advisory Board Staff Office; Notification of a Public Meeting of the Clean Air Scientific Advisory Committee (CASAC); Particulate Matter Review Panel

AGENCY: Environmental Protection Agency (EPA).

ACTION: Notice.

SUMMARY: The Environmental Protection Agency (EPA) Science Advisory Board (SAB) Staff Office announces a public meeting of the Clean Air Scientific Advisory Particulate Matter Review Panel to peer review EPA's Integrated Science Assessment for Particulate Matter: First External Review Draft and conduct a consultation on EPA's draft plans for Particulate Matter National Ambient Air Quality Standards: Scope and Methods Plan for Health Risk and Exposure Assessment and Particulate Matter National Ambient Air Quality Standards: Scope and Methods Plan for Urban Visibility Impact Assessment.

DATES: The public meeting will be held on Wednesday, April 1, 2009 from 8:30 a.m. to 4:45 p.m. (Eastern Time) and Thursday, April 2, 2009 from 8 a.m. to 2 p.m. (Eastern Time).

Location: The meeting will be held at the Carolina Inn, 211 Pittsboro Street, Chapel Hill, NC 27516.

FOR FURTHER INFORMATION CONTACT: Any member of the public who wants further information concerning the teleconference meeting may contact Dr. Holly Stallworth, Designated Federal Officer (DFO), EPA Science Advisory Board (1400F), U.S. Environmental Protection Agency, 1200 Pennsylvania Avenue, NW., Washington, DC 20460; via telephone/voice mail (202) 343-9867; fax (202) 233-0643; or e-mail at stallworth.holly@epa.gov. General information concerning the CASAC can be found on the EPA Web site at http://www.epa.gov/casac.

SUPPLEMENTARY INFORMATION: Background: The Clean Air Scientific Advisory Committee (CASAC) was established under section 109(d)(2) of the Clean Air Act (CAA or Act) (42 U.S.C. 7409) as an independent scientific advisory committee. CASAC provides advice, information and recommendations on the scientific and technical aspects of air quality criteria and national ambient air quality standards (NAAQS) under sections 108 and 109 of the Act. The CASAC is a Federal advisory committee chartered under the Federal Advisory Committee Act (FACA), as amended, 5 U.S.C., App. The Panel will comply with the provisions of FACA and all appropriate SAB Staff Office procedural policies. Section 109(d)(1) of the CAA requires that the Agency periodically review and revise, as appropriate, the air quality criteria and the National Ambient Air Quality Standard (NAAQS) for the six “criteria” air pollutants, including particulate matter (PM). EPA conducts scientific assessments to determine both primary (health-based) and secondary (welfare-based) standards for each of these pollutants. As part of that process, EPA's Office of Research and Development (ORD) has completed a draft document, Integrated Science Assessment for Particulate Matter (First External Review Draft, December 2008) and requested that CASAC peer review the document. EPA's Office of Air and Radiation (OAR) will also release two planning documents entitled Particulate Matter National Ambient Air Quality Standards: Scope and Methods Plan for Health Risk and Exposure Assessment and Particulate Matter National Ambient Air Quality Standards: Scope and Methods Plan for Urban Visibility Impact Assessment (February 2009). OAR has requested that the CASAC review these plans.

The purpose of the April 1-2, 2009 meeting is to review these three documents. Background information about the formation of the CASAC Particulate Matter Review Panel was published in the Federal Register on March 8, 2007 (72 FR 10527-10528). The Panel previously held a public teleconference on November 30, 2007 (announced in 72 FR 63177-63178) to provide consultative advice on EPA's draft Integrated Review Plan for the National Ambient Air Quality Standards for Particulate Matter, the first document in this review of the PM NAAQS.

Technical Contacts: Any questions concerning EPA's Integrated Science Assessment for Particulate Matter should be directed to Dr. Lindsay Stanek at stanek.lindsay@epa.gov or 919-541-7792. Any questions concerning EPA's Particulate Matter National Ambient Air Quality Standard: Scope and Methods Plan for Health Risk and Exposure Assessment should be directed to Ms. Beth Hassett-Sipple at hassett-sipple.beth@epa.gov or 919-541-4605. Any questions concerning Particulate Matter National Ambient Air Quality Standards: Scope and Methods Plan for Urban Visibility Impact Assessment (February 2009) should be directed to Ms. Vicki Sandiford at sandiford.vicki@epa.gov or 919-541-2629.

Availability of Meeting Materials: A meeting agenda, charge questions and other materials for the meeting will be placed on the CASAC Web site at http://yosemite.epa.gov/sab/sabpeople.nsf/WebCommitteesSubcommittees/CASAC%20Particulate%20Matter%20Review%20Panel (see links to “Current Advisory Activities”). The Integrated Science Assessment for Particulate Matter: First External Review Draft (December 2008) is available at http://cfpub.epa.gov/ncea/cfm/recordisplay.cfm?deid=201805. Both of the PM NAAQS Scope and Methods Plans (February 2009) will be available at http://www.epa.gov/ttn/naaqs/standards/pm/s_pm_2007_pd.html.

Procedures for Providing Public Input: Interested members of the public may submit relevant written or oral information for consideration on the topics included in this advisory activity. Oral Statements: To be placed on the public speaker list for the April 1-2, 2009 meeting, interested parties should notify Dr. Holly Stallworth, DFO, by e-mail no later than March 24, 2009. Individuals making oral statements will be limited to three minutes per speaker. Written Statements: Written statements for the April 1-2, 2009 meeting should be received in the SAB Staff Office by March 24, 2009, so that the information may be made available to the CASAC Panel for its consideration prior to this meeting. Written statements should be supplied to the DFO in the following formats: one hard copy with original signature and one electronic copy via e-mail (acceptable file format: Adobe Acrobat PDF, MS Word, WordPerfect, MS PowerPoint, or Rich Text files in IBM-PC/Windows 98/2000/XP format). Submitters are asked to provide versions of each document submitted with and without signatures, because the SAB Staff Office does not publish documents with signatures on its Web sites.

Accessibility: For information on access or services for individuals with disabilities, please contact Dr. Stallworth at the phone number or e-mail address noted above, preferably at least ten days prior to the teleconference, to give EPA as much time as possible to process your request.

Dated: February 11, 2009.
Anthony F. Maciorowski,
Deputy Director, EPA Science Advisory Board Staff Office.

[FR Doc. E9-3497 Filed 2-18-09; 8:45 am]

BILLING CODE 6560-50-P